DEPARTMENT OF HOUSING AND URBAN DEVELOPMENT

[Docket No. FR-5041-N-14]

Notice of Proposed Information Collection: Comment Request; Revitalization Area Designation and Management

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 27, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8003, Washington, DC 20410 or Lillian_Deitzer@hud.gov.

FOR FURTHER INFORMATION CONTACT: Joe McCloskey, Director, Single Family Asset Management, Department of Housing and Urban Development, 451 7th Street SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Revitalization Area Designation And Management.

OMB Control Number, if applicable: 2502-To Be Determined.

Description of the need for the information and proposed use: These information collections are needed to determine whether certain geographic areas qualify for designation as revitalization areas for purposes of offering HUD-owned single family assets for sale at discounts. HUD's Officer Next Door and Teacher Next Door Sales programs and the Asset Control Area program, each of which offers properties for sale at discounts, may operate only in designated revitalization areas. A geographic area must be described by census block group(s) and must meet one of the following three criteria:

1. Very Low Income Area: The median household income for the area is less than 60 percent of the median household income for:

(a) In the case of any area located within a metropolitan area, such metropolitan area; or

(b) In the case of any area not located within a metropolitan area, the State in which the area is located.

2. High Concentration of Eligible Assets: A high rate of default or foreclosure for single-family mortgages insured under the National Housing Act has resulted, or may result, in the area.

3. Low Homeownership Rate: The rate for homeownership of single-family homes in the area is substantially below the rate for homeownership in the metropolitan area or, in the case of any area not located within a metropolitan area, the state in which the area is located.

Agency form numbers, if applicable: None.

Estimation of the total numbers of hours needed to prepare the information collection including number of respondents, frequency of response, and hours of response: The estimated number of burden hours needed to prepare the information collection is 96 hours; the number of respondents is 12 generating approximately 12 annual responses; the frequency of response is on occasion; and the estimated time needed to prepare the response is approximately 8 hours per response.

Status of the proposed information collection: New filing for an existing program.

Authority: The Paperwork Reduction Act of 1995, 44 U.S.C., Chapter 35, as amended.

Dated: April 24, 2006.
Frank L. Davis,
General Deputy Assistant Secretary for Housing-Deputy Federal Housing Commissioner.

[FR Doc. E6-6383 Filed 4-27-06; 8:45 am]

BILLING CODE 4210-67-P